DEPARTMENT OF ENERGY

Federal Energy Regulatory Commission

Notice of Application for Amendment of License and Soliciting Comments, Motions To Intervene, and Protests

January 16, 2002.

Take notice that the following application has been filed with the Commission and is available for public inspection:

a. Type of Application: Non-Project Use of Project Lands.

b. Project No: 485-052.

c. Date filed: December 4, 2001.

d. Applicant: Georgia Power Co.

e. Name of Project: Bartletts Ferry Project.

f. Location: The project is located on Bartletts Ferry Reservoir, on the Layfield Tributary of the Chattahoochee River, Harris County, Georgia.

g. Filed Pursuant to: Federal Power Act, 16 U.S.C. 791(a)-825(r).

h. Applicant Contact: Robert L. Boyer, Vice President—#10170, 241 Ralph McGill Blvd., Atlanta, GA 30308-3374, (404) 506-7892.

i. FERC Contact: Any questions on this notice should be addressed to Hillary Berlin at 202-219-0038 or e-mail address: hillary.berlin@ferc.fed.us.

j. Deadline for filing comments, motions to intervene and protest: 45 days from the issuance date of this notice.

All documents (original and eight copies) should be filed with: Mr. Linwood A. Watson, Jr., Acting Secretary, Federal Energy Regulatory Commission, 888 First Street, NE., Washington, DC 20426. Please include the project number (485-052) on any comments or motions filed.

k. Description of Application: The licensee is requesting to increase the maximum water withdrawal rate from the Barletts Ferry reservoir from the current 11,120,446 gallons per day (per agreement with the City of Opelika Water Works Board) to 42,000,000 gallons per day. The licensee has consulted with the appropriate resource agencies, and their application includes comments from the Alabama Department of Conservation and Natural Resources and the U.S. Fish and Wildlife Service.

l. Locations of the application: A copy of the application is available for inspection and reproduction at the Commission's Public Reference Room, located at 888 First Street, NE, Room 2A, Washington, D.C. 20426, or by calling (202) 208-1371. This filing may also be viewed on the Commission's Web site at http://www.ferc.gov using the “RIMS” link, select “DNUMocket ” and follow the instructions (call 202-208-2222 for assistance). A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Linwood A. Watson, Jr.,
Acting Secretary.

[FR Doc. 02-1581 Filed 1-22-02; 8:45 am]

BILLING CODE 6717-01-P